DEPARTMENT OF AGRICULTURE

Submission for OMB Review; Comment Request

May 17, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Hass Avocados from Peru.

OMB Control Number: 0579-0355.

Summary of Collection: Under the Plant Protection Act (PPA) (7 U.S.C. 7701), the Secretary of Agriculture either independently or in cooperation with the States is authorized to carry out operations or measures to detect, eradicate, suppress, control, prevent, or retard the spread of plant pests new to the United States or not known to be widely distributed throughout the United States. Regulations authorized by the PPA concerning the importation of fruits and vegetables into the United States from certain parts of the world are contained in “Subpart—Fruit and Vegetables: (7 CFR 319.56-1 through 319.56-54). Under these regulations, Hass avocados from Peru are subject to certain conditions before entering the United States to prevent the introduction of plant pests into the United States.

Need and use of the Information: APHIS will collect information using the following: Physanitary certificate, trust fund, workplan, recordkeeping, inspection of packinghouses, box marking and shipping documents. Failure to collect this information would comprise APHIS' ability to ensure that fresh Hass avocados from Peru are not harboring destructive insect pest that could cause millions of dollars in damage to U.S. agriculture.

Description of Respondents: Business or other for-profits; Federal Government.

Number of Respondents: 2.

Frequency of Responses: Recordkeeping; Reporting: On occasion.

Total Burden Hours: 308.

Animal and Plant Health Inspection Service

Title: Citrus Greening and Asian Citrus Psyllid; Quarantine and Interstate Movement Regulations.

OMB Control Number: 0579-0363.

Summary of Collection: The Plant Protection Act (7 U.S.C. 7701 et seq.) authorizes the Secretary of Agriculture either independently or in cooperation with the States, to carry out operations or measures to detect, eradicate, suppress, control, prevent, or retard the spread of plant pests (such as citrus canker) new or widely distributed throughout the United States. The Animal and Plant Health Inspection Service (APHIS) amended the “Domestic Quarantine Notices” in 7 CFR part 301 by adding a new subpart, “Citrus Greening and Asian Citrus Psyllid (ACP)” (§§ 301.76 through 301.76-11). Citrus greening, also known as Huanglonghing disease of citrus, is considered to be one of the most serious citrus diseases in the world.

Need and use of the Information: APHIS will collect information using various forms to address the risk associated with the interstate movement of citrus nursery stock and other regulated articles from areas quarantined for citrus greening. Failing to collect this information could cause a severe economic loss to the citrus industry.

Description of Respondents: Business or other for-profit.

Number of Respondents: 621.

Frequency of Responses: Recordkeeping; Reporting: On occasion.

Total Burden Hours: 1,785.

Ruth Brown,
Departmental Information Collection Clearance Officer.

[FR Doc. 2012-12426 Filed 5-22-12; 8:45 am]

BILLING CODE 3410-34-P